DEPARTMENT OF HEALTH AND HUMAN SERVICES

National Institutes of Health

National Library of Medicine: Cancellation of Meeting

Notice is hereby given of the cancellation of the PubMed Central National Advisory Committee, June 7, 2016, 9:30 a.m. to June 7, 2016, 3:00 p.m., National Library of Medicine, Building 38, 2nd Floor, Lindberg Room, 8600 Rockville Pike, Bethesda, MD 20892 which was published on January 26, 2016, 81 FR 16, Page 4314.

Dated: May 10, 2016.
Michelle Trout,
Program Analyst, Office of Federal Advisory Committee Policy.

[FR Doc. 2016-11399 Filed 5-13-16; 8:45 am]

BILLING CODE 4140-01-P